COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add services to the Procurement List that will be provided by nonprofit agencies employing persons who are blind or have other severe disabilities and deletes products previously furnished by such agencies.

Comments Must Be Received On or Before: 11/12/2012.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type/Location: Custodial Services, Transportation Security Administration (TSA), 6100 E. M. Dirksen Parkway, Peoria International Airport, Peoria, IL.

NPA: Community Workshop and Training Center, Inc., Peoria, IL.

Contracting Activity: General Services Administration, Public Buildings Service, Property Management Service Center, Springfield, IL.

Service Type/Location: Recycling Services, Hart-Dole-Inouye Federal Center, 74 North Washington Avenue, Battle Creek, MI.

NPA: Navigations, Inc., Battle Creek, MI.

Contracting Activity: General Services Administration, Public Buildings Service, Property Management Service Center, Detroit, MI.

Deletions

The following products are proposed for deletion from the Procurement List:

Products

Mat, Floor Rubber

NSN: 2540-01-298-8449—61” x 36” fabricated mat, reinforced with steel wire.

NPA: Hope Haven, Inc., Rock Valley, IA.

Contracting Activity: Defense Logistics Agency Land and Maritime, Columbus, OH.

SKILCRAFT-Spartan Chemical Cleaners

NSN: 7930-00-NIB-0597—Tb-Cide Quat RTU Disinfectant.

NSN: 8125-00-NIB-0032—Spray Bottle, Tb-Cide Plus II Disinfectant.

NSN: 7930-00-NIB-0579—Tb-Cide Plus II Disinfectant.

NSN: 7930-00-NIB-0578—GreenSolutions High Dilution 256 Neutral Disinfect.

NPA: Susquehanna Association for the Blind and Vision Impaired, Lancaster, PA.

Contracting Activity: Department of Veterans Affairs, NAC, Hines, IL.

SKILCRAFT SAVVY Unreal Spot Remover

NSN: 7930-01-517-6196—55 Gallon.

NSN: 7930-01-517-6194—32 oz.

NSN: 7930-01-517-2728—5 Gallon.

NSN: 7930-01-517-6195—1 Gallon.

NPA: Susquehanna Association for the Blind and Vision Impaired, Lancaster, PA.

Contracting Activity: General Services Administration, New York, NY.

Calculator or cash register paper

NSN: 7530-01-590-7109—Roll, Thermal Paper, 3⅛ in x 270 ft, White.

NSN: 7530-01-590-7111—Roll, Thermal Paper, 3⅛ in x 230 ft, White.

NPA: Cincinnati Association for the Blind, Cincinnati, OH.

Contracting Activity: General Services Administration, New York, NY.

Barry S. Lineback,
Director, Business Operations.

[FR Doc. 2012-25112 Filed 10-11-12; 8:45 am]

BILLING CODE 6353-01-P